DEPARTMENT OF COMMERCE

Economic Development Administration

Notice of Petitions by Firms for Determination of Eligibility To Apply for Trade Adjustment Assistance

AGENCY: Economic Development Administration, Department of Commerce.

ACTION: Notice and opportunity for public comment.

Pursuant to Section 251 of the Trade Act 1974, as amended (19 U.S.C. 2341 et seq.), the Economic Development Administration (EDA) has received petitions for certification of eligibility to apply for Trade Adjustment Assistance (TAA) from the firms listed below. Accordingly, EDA has initiated investigations to determine whether increased imports into the United States of articles like or directly competitive with those produced by each of these firms contributed importantly to the total or partial separation of the firm's workers, or threat thereof, and to a decrease in sales or production of each petitioning firm.

List of Petitions Received by EDA for Certification Eligibility To Apply for Trade Adjustment Assistance
[04/06/2012 through 05/08/2012]
Firm name | Firm address | Date accepted for investigation | Product(s)
Hubbardton Forge, LLC | Hubbardton Forge, LLC., P.O. Box 827, 154 Route 30 S., Castleton, VT 06763 | 04/06/12 | The firm designs and manufactures hand-forged lighting products and accessories.
Durrset Amigos, Ltd | 4669 U.S. Highway 90W, San Antonio, TX 78237 | 04/23/12 | The firm manufactures processed food for human consumption.
Conval, Inc | 265 Field Road, P.O. Box 1049, Somers, CT 06071 | 04/25/12 | The firm manufactures commercial and N Stamp (Classes 1,2,&3) high pressure, high temperature, forged steel valves.
Alternative Manufacturing, Inc | 30 Summer Street, Suite B, Winthrop, ME 04367 | 04/25/12 | The firm assembles printed circuit boards.
J&M Plating, Inc | 4500 Kishwaukee Street, Rockford, IL 61109-2924 | 04/25/12 | The firm manufactures plated and heat treated screws.
Snow Country Hardwoods, Inc. | 1300 Odanah Road Hurley, WI 54534 USA | 04/25/12 | The firm manufactures custom made dimension wood products and components.
U.S. Ply, Inc | 2000 E Richmond Avenue, Fort Worth, TX 76104-6333 | 05/07/12 | The firm manufactures full line of low-slope commercial roofing materials.
Ventamatic, Ltd | 100 Washington Street, Mineral Wells, TX 76068 | 05/08/12 | The firm manufactures air vents for commercial, residential, and industrial applications.

Any party having a substantial interest in these proceedings may request a public hearing on the matter. A written request for a hearing must be submitted to the Trade Adjustment Assistance for Firms Division, Room 7106, Economic Development Administration, U.S. Department of Commerce, Washington, DC 20230, no later than ten (10) calendar days following publication of this notice.

Please follow the requirements set forth in EDA's regulations at 13 CFR 315.9 for procedures to request a public hearing. The Catalog of Federal Domestic Assistance official number and title for the program under which these petitions are submitted is 11.313, Trade Adjustment Assistance for Firms.

Dated: May 9, 2012.
Bryan Borlik,
Director, TAA for Firms.

[FR Doc. 2012-11704 Filed 5-14-12; 8:45 am]

BILLING CODE 3510-WH-P